ENVIRONMENTAL PROTECTION AGENCY

[OPP-2003-0029; FRL-7328-7]

Fenridazone Potassium; Cancellation Order

AGENCY: Environmental Protection Agency (EPA).

ACTION: Notice.

SUMMARY: This notice announces a cancellation order requested by Monsanto Company for their registration of the pesticide product containing methyl 1-(4-chlorophenyl)-1, 4-dihydro-6-methyl-4-oxo-3-pyridazinecarboxylic acid, potassium salt, or fenridazone potassium, and accepted by EPA, pursuant to section 6(f) of the Federal Insecticide, Fungicide, and Rodenticide Act (FIFRA). This order follows up a July 25, 2003, notice of receipt of request for the above mentioned voluntary registration cancellation. In that notice, EPA requested comments on the proposed cancellation and indicated that it would issue an order confirming the cancellation. Any distribution, sale, or use of canceled fenridazone potassium products is permitted only in accordance with the terms of the existing stocks provisions of this cancellation order.

DATES: The cancellations are effective November 5, 2003.

FOR FURTHER INFORMATION CONTACT: Demson Fuller, Special Review and Reregistration Division (7508C), Office of Pesticide Programs, Environmental Protection Agency, 1200 Pennsylvania Ave., NW., Washington, DC 20460, telephone number: (703) 308-8062; fax number: (703) 308-7042; e-mail address: fuller.demson@epamail.epa.gov.

SUPPLEMENTARY INFORMATION:

I. General Information

A. Does this Action Apply to Me?

This action is directed to the public in general. You may be potentially affected by this action if you manufacture, sell, distribute, or use fenridazone potassium products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of This Document and Other Related Documents?

1. Docket. EPA has established an official public docket for this action under docket identification (ID) number OPP-2002-0029. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. To access RED documents and RED fact sheets electronically, go directly to the REDs table on the EPA Office of Pesticide Programs Home Page at http://www.epa.gov/pesticides/reregistration/status.htm.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

II. Receipt of Request to Cancel Registrations

A. Background

Fenridazone is a dihydro-oxopyridizine pesticide which was registered as a growth regulator used on wheat. The technical registrant, Monsanto Company requested a voluntary cancellation of their registration for the product containing fenridazone potassium.

Pursuant to section 6(f)(1) of the Federal Insecticide, Fungicide, and Rodenticide Act (FIFRA), EPA announced receipt of the request from Monsanto Company in a Federal Register Notice published on July 25, 2003 (68 FR 44081) (FRL-7315-6). In that notice, EPA provided a 30-day comment period. The registrant requested the Administrator waive the 180-day comment period provided under FIFRA section 6(f)(1)(c), and EPA granted this request. No public comments were received during the 30-day comment period.

B. Requests for Voluntary Cancellation of Products

Pursuant to FIFRA section 6(f)(1)(A), Monsanto Company has submitted a request for voluntary cancellation of a registration for their product containing fenridazone potassium. The registration for which the cancellation was requested is identified in the following table:

Table 1.—Product Registration Cancellation Request
Company | Registration Number | Product
Monsanto Company | 524-453 | Hybrex 2lC Chemical Hybridizing Agent

III. Cancellation Order

Pursuant to section 6(f)(1)(A) of FIFRA, EPA is approving the requested cancellation. Accordingly, EPA orders that the registration identified in Table 1, is hereby canceled. Any distribution, sale, or use of existing stocks of the product identified in the table above in a manner inconsistent with the terms of this order or the existing stock provisions in Unit IV. of this Federal Register Notice will be considered a violation of section 12(a)(2)(K) of FIFRA and/or section 12(a)(1)(A) of FIFRA.

IV. Existing Stocks Provisions

For purposes of this order, the term “existing stocks” is defined, pursuant to EPA's Existing Stocks Policy (56 FR 29362, June 26, 1991) (FRL-3846-4), as those stocks of a registered pesticide product which are currently in the United States and which have been packaged, labeled, and released for shipment prior to the effective date of cancellation.

V. Distribution or Sale by the Registrant

Cancellation orders generally permit a registrant to sell or distribute existing stocks for 1 year after the date the cancellation request was received. However, the registrant has stated that the Hybrex 2 LC Chemical Hybridizing product has not been sold since 1989 nor has the chemical ever been distributed. Therefore, no products should be in the channels or trade.

List of Subjects

Environmental protection, Pesticides and pests.

Dated: October 27, 2003.
Betty Shackleford,
Acting Director, Special Review and Reregistration Division, Office of Pesticide Programs.

[FR Doc. 03-27852 Filed 11-4-03; 8:45 am]

BILLING CODE 6560-50-S